DEPARTMENT OF TRANSPORTATION

Federal Aviation Administration

14 CFR Part 89

[Docket No. FAA-2019-1100]

Enforcement Policy Regarding Production Requirements for Standard Remote Identification Unmanned Aircraft

AGENCY: Federal Aviation Administration (FAA), U.S. Department of Transportation (DOT).

ACTION: Notification of enforcement policy.

SUMMARY: For noncompliance with the remote identification production requirements applicable to unmanned aircraft, which occurs on or before December 16, 2022, the FAA will consider all circumstances, in particular, the delay in the FAA's acceptance of a means of compliance, when exercising its discretion whether to take enforcement action.

DATES: This policy is effective September 8, 2022.

FOR FURTHER INFORMATION CONTACT: James D. Foltz, Strategic Policy Emerging Aircraft Section, Policy and Innovation Division, Aircraft Certification Service, Federal Aviation Administration, 901 Locust Street, Room 301, Kansas City, MO 64106; telephone 1-844-FLY-MY-UA (1-844-359-6981); email: UAShelp@faa.gov.

SUPPLEMENTARY INFORMATION:

Electronic Access and Filing

A copy of this document may be viewed online at https://www.regulations.gov using the docket number listed above. A copy of this document will be placed in the docket. Electronic retrieval help and guidelines are available on the website. It is available 24 hours each day, 365 days each year. An electronic copy of this document may also be downloaded from the Office of the Federal Register's website at https://www.federalregister.gov and the Government Publishing Office's website at https://www.govinfo.gov.

Background

On January 15, 2021, the Remote Identification of Unmanned Aircraft final rule (RIN 2120-AL31) published in the Federal Register at 86 FR 4390. In accordance with the final rule, standard remote identification unmanned aircraft and remote identification broadcast modules must be designed and produced to meet the requirements of title 14 of the Code of Federal Regulations part 89 (14 CFR part 89). A person designing or producing a standard remote identification unmanned aircraft or remote identification broadcast module for operation in the United States must show that the unmanned aircraft or broadcast module meets the requirements of an FAA-accepted means of compliance. A means of compliance describes the methods by which the person complies with the performance-based requirements for remote identification.

Under part 89, a person seeking acceptance by the FAA of a means of compliance for standard remote identification unmanned aircraft or remote identification broadcast modules must submit the means of compliance to the FAA. The FAA reviews the means of compliance to determine if it meets the minimum performance requirements and includes appropriate testing and validation procedures in accordance with 14 CFR part 89. Specifically, the person must submit a detailed description of the means of compliance, an explanation for how the means of compliance meets the minimum performance requirements of 14 CFR part 89, and any substantiating material the person wishes the FAA to consider as part of the application.¹ Part 89 prohibits production of unmanned aircraft for operation in the United States unless the manufacturer meets the performance requirements of part 89 by following an FAA-accepted means of compliance for producing standard remote identification unmanned aircraft by the compliance date of September 16, 2022.² A means of compliance is not considered to be “FAA-accepted” until the means of compliance has been evaluated by the Administrator, the Administrator determines the person has demonstrated that the means of compliance meets the requirements of subparts D and E of part 89, and the FAA has notified the person who submitted the means of compliance that the Administrator has accepted it.³

¹ 14 CFR 89.405.

² 14 CFR 89.510 and 89.515.

³ 14 CFR 89.410.

On May 13, 2022, the American Society for Testing and Materials (ASTM) submitted “Standard Practice for Remote ID Means of Compliance to Federal Aviation Administration Regulation 14 CFR part 89,” ASTM Reference Number F3586-22, to the FAA for acceptance. On August 11, 2022, the FAA published a notice of availability announcing the acceptance of a means of compliance consisting of both ASTM Standard F3586-22 and the additions specified in that notice of availability.⁴

⁴ Accepted Means of Compliance; Remote Identification of Unmanned Aircraft notice of availability, 87 FR 49520, August 11, 2022. Docket no. FAA-2022-0859.

Accordingly, while the FAA expects that those involved in the development of ASTM F3586-22 require less time to design and develop standard remote identification unmanned aircraft using the FAA-accepted means of compliance (ASTM F3586-22 and additions provided in the notice of availability) than they would if the entire means of compliance had been unfamiliar, until a means of compliance was accepted by the FAA, persons producing unmanned aircraft were unable to meet the standard remote identification unmanned aircraft production requirements in part 89.

Statement of Policy

The FAA recognizes that it accepted the ASTM F3586-22 means of compliance slightly more than a month before the September 16, 2022, compliance date. The FAA has already received some declarations of compliance from manufacturers who are likely to meet the September 16, 2022, compliance date. However, the FAA acknowledges that other manufacturers may not have sufficient time to adequately design, develop, and test unmanned aircraft and file a declaration of compliance with the FAA on or before September 16, 2022, because of the delayed acceptance of the means of compliance. Accordingly, the FAA will exercise its discretion in determining how to handle any apparent noncompliance, including exercising discretion to not take enforcement action, if appropriate, for any noncompliance that occurs on or before December 16, 2022. The exercise of enforcement discretion herein creates no individual right of action and establishes no precedent for future determinations.

Issued in Washington, DC, on September 7, 2022.
Cynthia A. Dominik,
Assistant Chief Counsel for Enforcement, Federal Aviation Administration.

[FR Doc. 2022-19644 Filed 9-8-22; 8:45 am]

BILLING CODE 4910-13-P